DEPARTMENT OF ENERGY

Federal Energy Regulatory Commission

Combined Notice of Filings #1

Take notice that the Commission received the following Complaints and Compliance filings in EL Dockets:

Docket Numbers: EL25-79-000.

Applicants: North Carolina Electric Membership Corporation v. PJM Interconnection, L.L.C.

Description: Complaint of North Carolina Electric Membership Corporation v. PJM Interconnection, L.L.C.

Filed Date: 5/8/25.

Accession Number: 20250508-5152.

Comment Date: 5 p.m. ET 6/9/25.

Take notice that the Commission received the following electric rate filings:

Docket Numbers: ER10-1849-036; ER10-1851-021; ER10-1852-111; ER10-1857-024; ER10-1890-031; ER10-1899-025; ER10-1907-034; ER10-1918-035; ER10-1930-021; ER10-1931-022; ER10-1932-024; ER10-1935-025; ER10-1950-035; ER10-1962-031; ER11-2160-031; ER11-2642-030; ER11-3635-024; ER12-1228-037; ER13-752-024; ER13-1991-037; ER13-1992-037; ER13-2112-026; ER13-81-003; ER14-2447-005; ER15-2101-019; ER15-2477-024; ER15-2601-017; ER16-90-024; ER17-2340-021; ER18-882-024; ER18-1534-017; ER18-2246-024; ER19-1392-015; ER19-1393-022; ER19-1394-022; ER19-2269-013; ER19-2389-015; ER19-2398-020; ER19-2437-018; ER20-1986-013; ER20-2019-014; ER20-2064-015; ER21-254-011; ER21-1682-009; ER21-1879-009; ER21-1953-014; ER21-2118-012; ER21-2225-013; ER21-2293-012; ER21-2296-012; ER22-381-017; ER22-1982-012; ER22-2706-008; ER23-1541-006; ER23-1542-006; ER23-1543-006; ER23-2321-008; ER23-2629-007; ER24-26-005; ER24-827-005; ER24-1289-005; ER24-1816-004; ER24-2512-005; ER24-2513-005; ER24-2514-005; ER25-67-002; ER25-1545-002; ER25-1438-003.

Applicants: Dominguez Grid, LLC, DG VDH BESS, LLC, Grace Orchard Solar II, LLC, FRP Gadsden County Solar, LLC, FRP Columbia County Solar, LLC, FRP Gilchrist County Solar, LLC, High River Energy Center, LLC, Decatur Solar Energy Center, LLC, Grace Orchard Energy Center, LLC, East Point Energy Center, LLC, High Banks Wind, LLC, Dunns Bridge Energy Storage, LLC, Desert Peak Energy Storage II, LLC, Desert Peak Energy Storage I, LLC, Desert Peak Energy Center, LLC, Eight Point Wind, LLC, Great Prairie Wind, LLC, Dunns Bridge Solar Center, LLC, Ensign Wind Energy, LLC, Fish Springs Ranch Solar, LLC, Irish Creek Wind, LLC, Dodge Flat Solar, LLC, Heartland Divide Wind II, LLC, Farmington Solar, LLC, Elora Solar, LLC, Harmony Florida Solar, LLC, High Majestic Wind I, LLC, Gray County Wind, LLC, Day County Wind I, LLC, Emmons-Logan Wind, LLC, Hancock County Wind, LLC, Grazing Yak Solar, LLC, Dougherty County Solar, LLC, Endeavor Wind II, LLC, Endeavor Wind I, LLC, High Lonesome Mesa Wind, LLC, Heartland Divide Wind Project, LLC, East Hampton Energy Storage Center, LLC, Elk City Renewables II, LLC, Golden Hills North Wind, LLC, Golden Hills Interconnection, LLC, Green Mountain Storage, LLC, Golden Hills Wind, LLC, Golden West Power Partners, LLC, Granite Reliable Power, LLC, Frontier Utilities New York LLC, Genesis Solar, LLC, Desert Sunlight 300, LLC, Desert Sunlight 250, LLC, Energy Storage Holdings, LLC, High Majestic Wind II, LLC, Hatch Solar Energy Center I, LLC, FPL Energy South Dakota Wind, LLC, FPL Energy Montezuma Wind, LLC, High Winds, LLC, Garden Wind, LLC, FPL Energy Wyman IV, LLC, FPL Energy Wyman, LLC, FPL Energy Vansycle, L.L.C., FPL Energy Stateline II, Inc., FPL Energy North Dakota Wind II, LLC, FPL Energy North Dakota Wind, LLC, FPL Energy Illinois Wind, LLC, FPL Energy Green Power Wind, LLC, FPL Energy Cape, LLC, Florida Power & Light Company, ESI Vansycle Partners, L.P., Elk City Wind, LLC.

Description: Notice of Change in Status of Adelanto Solar II, LLC, et al.

Filed Date: 4/30/25.

Accession Number: 20250430-5726.

Comment Date: 5 p.m. ET 5/21/25.

Docket Numbers: ER10-1951-084; ER10-1966-025; ER10-1970-035; ER10-1972-035; ER10-1973-024; ER10-1974-035; ER10-2641-053; ER11-2192-027; ER11-2365-013; ER11-4462-107; ER11-4677-032; ER12-676-026; ER12-895-035; ER12-2225-024; ER12-2226-024; ER12-2444-030; ER13-2461-028; ER14-21-019; ER14-1630-021; ER14-2138-021; ER14-2707-032; ER14-2710-032; ER15-58-030; ER15-1375-025; ER16-1354-020; ER16-1440-026; ER16-1872-025; ER16-1913-017; ER16-2241-025; ER16-2275-025; ER16-2276-025; ER16-2297-026; ER16-2443-021; ER16-2506-027; ER17-196-014; ER17-838-081; ER17-1774-015; ER18-772-016; ER18-807-017; ER18-1535-016; ER18-1771-025; ER18-1981-021; ER18-2003-021; ER18-2066-016; ER18-2182-022; ER18-2224-025; ER19-11-015; ER19-2266-013; ER20-792-015; ER20-1219-012; ER20-1220-016; ER20-1879-017; ER20-1907-014; ER20-1985-012; ER20-1988-013; ER20-1991-015; ER20-2012-012; ER20-2648-014; ER20-2690-016; ER20-2695-016; ER21-183-010; ER21-1532-010; ER21-1880-009; ER21-2100-013; ER21-2117-013; ER21-2149-013; ER21-2641-009; ER21-2699-014; ER22-2536-009; ER23-147-008; ER23-148-008; ER23-489-008; ER23-1208-006; ER24-34-007; ER24-2792-005; ER24-2793-005; ER24-2794-005; ER25-1232-002; ER25-1348-003.

Applicants: New Madrid Solar, LLC, Kola Energy Storage, LLC, Minco II Energy Storage, LLC, Ponderosa Wind II, LLC, Oliver Wind IV, LLC, Proxima Solar, LLC, North Central Valley Energy Storage, LLC, Neptune Energy Center, LLC, Resurgence Solar II, LLC, Resurgence Solar I, LLC, Kossuth County Wind, LLC, Minco Wind Energy III, LLC, Quinebaug Solar, LLC, Minco Wind Energy II, LLC, Little Blue Wind Project, LLC, Point Beach Solar, LLC, Niyol Wind, LLC, Quitman II Solar, LLC, Nutmeg Solar, LLC, Mohave County Wind Farm LLC, Jordan Creek Wind Farm LLC, Northern Divide Wind, LLC, Orbit Bloom Energy, LLC, Ponderosa Wind, LLC, Northern Colorado Wind Energy Center II, LLC, Northern Colorado Wind Energy Center, LLC, Minco Wind I, LLC, Oliver Wind I, LLC, Oliver Wind II, LLC, Peetz Table Wind, LLC, Oklahoma Wind, LLC, Quitman Solar, LLC, Peetz Logan Interconnect, LLC, Pegasus Wind, LLC, Minco IV & V Interconnection, LLC, Minco Wind IV, LLC, Lorenzo Wind, LLC, Pratt Wind, LLC, Langdon Renewables, LLC, Montauk Energy Storage Center, LLC, Pinal Central Energy Center, LLC, New Mexico Wind, LLC, NextEra Energy Bluff Point, LLC, NextEra Energy Marketing, LLC, Pima Energy Storage System, LLC, Oliver Wind III, LLC, NextEra Blythe Solar Energy Center, LLC, Osborn Wind Energy, LLC, Kingman Wind Energy II, LLC, Kingman Wind Energy I, LLC, Ninnescah Wind Energy, LLC, River Bend Solar, LLC, Marshall Solar, LLC, Roswell Solar, LLC,Live Oak Solar, LLC, McCoy Solar, LLC, Palo Duro Wind Interconnection Services, LLC, Palo Duro Wind Energy, LLC, Mammoth Plains Wind Project, LLC, Limon Wind III, LLC, Mantua Creek Solar, LLC, Mountain View Solar, LLC, Pheasant Run Wind, LLC, North Sky River Energy, LLC, Limon Wind, LLC, Limon Wind II, LLC, Minco Wind Interconnection Services, LLC, Perrin Ranch Wind, LLC, NextEra Energy Montezuma II Wind, LLC, NEPM II, LLC, Paradise Solar Urban Renewal, L.L.C., Red Mesa Wind, LLC, Oleander Power Project, Limited Partnership, Northeast Energy Associates, A Limited Partnership, NextEra Energy Seabrook, LLC, NextEra Energy Point Beach, LLC, NextEra Energy Duane Arnold, LLC, Logan Wind Energy LLC, NextEra Energy Services Massachusetts, LLC.

Description: Notice of Change in Status of Adelanto Solar II, LLC, et al.

Filed Date: 4/30/25.

Accession Number: 20250430-5727.

Comment Date: 5 p.m. ET 5/21/25.

Docket Numbers: ER10-2078-033; ER11-4678-031; ER12-631-032; ER12-1660-034; ER13-2458-029; ER14-2708-033; ER15-30-030; ER15-1016-024; ER15-2243-022; ER16-1277-020; ER16-1293-020; ER16-2240-026; ER17-582-023; ER17-583-023; ER17-2270-026; ER18-2032-021; ER18-2091-017; ER18-2314-019; ER19-774-015; ER19-1076-016; ER19-1128-015; ER19-2382-018; ER19-2495-017; ER19-2513-017; ER20-637-015; ER20-780-015; ER20-1417-013; ER20-2070-010; ER20-2153-012; ER20-2237-015; ER20-2380-013; ER20-2597-015; ER20-2603-015; ER20-2622-011; ER21-255-011; ER21-744-009; ER21-1506-010; ER21-1580-013; ER21-2048-014; ER21-2109-008; ER22-96-009; ER22-1370-012; ER22-1870-007; ER22-2601-009; ER22-2824-011; ER23-493-008; ER23-853-006; ER23-854-007; ER23-884-007; ER23-1862-005; ER24-61-006; ER24-136-008; ER24-818-005; ER24-1287-006; ER24-1288-006; ER24-2848-005; ER25-554-002; ER25-668-001; ER25-1314-001; ER25-1317-003; ER25-1349-003; ER25-1409-001; ER25-1410-001; ER25-1440-001.

Applicants: Skeleton Creek Energy Center, LLC, Route 66 Energy Storage, LLC, Sky Ranch Energy Storage II, LLC, Sebree Solar, LLC, Salt Creek Wind LLC, Mammoth Plains Wind, LLC, Seiling Wind Energy II, LLC, Wheatridge East Wind, LLC, Wild Plains Wind Project, LLC, Troutdale Grid, LLC, Washington County Solar, LLC, Wadley Solar, LLC, Yellow Pine Solar II, LLC, Sunlight Storage II, LLC, Sky Ranch Solar, LLC, Roundhouse Renewable Energy II, LLC, Sonoran Solar Energy, LLC, Storey Energy Center, LLC, Saint Energy Storage II, LLC, Thunder Wolf Energy Center, LLC, Yellow Pine Solar, LLC, Walleye Wind, LLC, Vansycle II Wind, LLC, Sunlight Storage, LLC, Route 66 Solar Energy Center, LLC, Wheatridge Wind Energy Center, LLC, Sac County Wind, LLC, Sky River Wind, LLC, Shaw Creek Solar, LLC, Wallingford Renewable Energy LLC, Taylor Creek Solar, LLC, Wilmot Energy Center, LLC, Skeleton Creek Wind, LLC, Soldier Creek Wind, LLC, Saint Solar, LLC, Weatherford Wind, LLC, Sanford Airport Solar, LLC, Wheatridge Wind II, LLC, Roundhouse Renewable Energy, LLC, Sooner Wind, LLC, Wilton Wind Energy I, LLC, Wilton Wind Energy II, LLC, Wessington Springs Wind, LLC, Story County Wind, LLC, Rush Springs Energy Storage, LLC, Windstar Energy, LLC, Stanton Clean Energy, LLC, Sholes Wind, LLC, Titan Solar, LLC, Wildcat Ranch Wind Project, LLC, Stuttgart Solar, LLC, Whitney Point Solar, LLC, Westside Solar, LLC, Rush Springs Wind Energy, LLC, White Oak Solar, LLC, White Pine Solar, LLC, Silver State Solar Power South, LLC, Shafter Solar, LLC, Seiling Wind Interconnection Services, LLC, Seiling Wind, LLC, Tuscola Wind II, LLC, Tuscola Bay Wind, LLC, Windpower Partners 1993, LLC, Vasco Winds, LLC, White Oak Energy LLC.

Description: Notice of Change in Status of Adelanto Solar II, LLC, et al.

Filed Date: 4/30/25.

Accession Number: 20250430-5728.

Comment Date: 5 p.m. ET 5/21/25.

Docket Numbers: ER10-2822-028; ER10-2828-009; ER10-3002-009; ER10-3004-010; ER10-3010-009; ER10-3031-009; ER11-2112-013; ER12-96-012; ER16-2285-007; ER19-2361-004; ER23-2554-001; ER13-1058-001.

Applicants: Avangrid Power, LLC, Midland Wind, LLC, Otter Creek Wind Farm LLC, Desert Wind Farm LLC, South Chestnut LLC, Blue Creek Wind Farm LLC, Streator-Cayuga Ridge Wind Power LLC, Providence Heights Wind, LLC, Locust Ridge Wind Farm II, LLC, Locust Ridge Wind Farm, LLC, Casselman Windpower LLC, Atlantic Renewable Projects II LLC.

Description: Notice of Change in Status of Atlantic Renewable Projects II LLC, et al.

Filed Date: 4/30/25.

Accession Number: 20250430-5724.

Comment Date: 5 p.m. ET 5/21/25.

Docket Numbers: ER10-2822-029; ER10-1776-008; ER10-2824-008; ER10-2825-009; ER10-2957-009; ER10-2995-009; ER10-2996-008; ER10-2998-006; ER10-2999-008; ER10-3000-008; ER10-3009-010; ER10-3013-009; ER10-3029-008; ER19-2360-007; ER21-2272-006; ER21-2748-005; ER21-2847-006; ER22-2173-005; ER22-2174-005; ER25-1529-001.

Applicants: Avangrid Power, LLC, Daybreak Solar, LLC, Bakeoven Solar, LLC, Montague Solar, LLC, Lund Hill Solar, LLC, Golden Hills Wind Farm, LLC, Montague Wind Power Facility, LLC, Klondike Wind Power III LLC, Star Point Wind Project LLC, Pebble Springs Wind LLC, Klondike Wind Power II LLC, Klondike Wind Power LLC, Klamath Generation LLC, Klamath Energy LLC, Juniper Canyon Wind Power LLC, Hay Canyon Wind LLC, Big Horn II Wind Project LLC, Big Horn Wind Project LLC, Leaning Juniper Wind Power II LLC, Atlantic Renewable Projects II LLC.

Description: Notice of Change in Status of Atlantic Renewable Projects II LLC, et al.

Filed Date: 4/30/25.

Accession Number: 20250430-5729.

Comment Date: 5 p.m. ET 5/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes.

For public inquiries and assistance with making filings such as interventions, comments, or requests for rehearing, the public is encouraged to contact OPP at (202) 502-6595 or OPP@ferc.gov.

Dated: May 9, 2025.
Debbie-Anne A. Reese,
Secretary.

[FR Doc. 2025-08634 Filed 5-14-25; 8:45 am]

BILLING CODE 6717-01-P